DEPARTMENT OF ENERGY

Federal Energy Regulatory Commission

[Docket No. ER03-762-001, et al.]

Alliant Energy Corporate Services, Inc., et al.; Electric Rate and Corporate Filings

August 20, 2003.

The following filings have been made with the Commission. The filings are listed in ascending order within each docket classification.

1. Alliant Energy Corporate Services, Inc.

[Docket No. ER03-762-001]

Alliant Energy Corporate Services, Inc.

[Docket No. ER99-230-004]

Take notice that on August 15, 2003, Alliant Energy Corporate Services, Inc., on behalf of the Alliant Energy Operating Companies, submitted a response to the deficiency letter issued by the Staff of the Federal Energy Regulatory Commission requesting additional analyses and information in support of Alliant Energy's filings.

Comment Date: September 5, 2003.

2. Entergy Services, Inc.

[Docket No. ER03-851-001]

Take notice that on August 14, 2003, Entergy Services, Inc., on behalf of Entergy Gulf States, Inc., tendered for filing with the Federal Energy Regulatory Commission a compliance interconnection and operating agreement with ExxonMobil Oil Corporation in response to the Commission's July 15, 2003, Order in Entergy Services, Inc., 104 FERC ¶ 61,084.

Comment Date: September 4, 2003.

3. PG&E Dispersed Generating Company, LLC

[Docket No. ER03-1026-001]

Take notice that on August 14, 2003, PG&E Dispersed Generating Company, LLC (Dispersed Generating), tendered for filing pursuant to 18 CFR 35.9 and 35.10 a Notice of Termination seeking to terminate the tolling agreement between Dispersed Generating and PG&E Energy Trading—Power, L.P., that was originally filed in Docket No. ER02-449-000.

Comment Date: September 4, 2003.

4. Covanta Union, Inc.

[Docket No. ER03-1085-001]

Take notice that on August 15, 2003, Covanta Union, Inc., (Covanta Union) tendered for filing an amendment to a July 16, 2003, Notice of Succession filed by Covanta Union in Docket No. ER03-1085-000. The amendment consists of tariff sheets for Rate Schedule FERC No. 1 and FERC Electric Tariff, Original Volume No. 1 in compliance with Order No. 614.

Comment Date: September 5, 2003.

5. PacifiCorp

[Docket No. ER03-1210-000]

Take notice that on August 14, 2003, PacifiCorp, tendered for filing in accordance with 18 CFR 35 of the Commission's Rules and Regulations, the Control Area Services Agreement between PacifiCorp and Deseret Generation & Transmission Cooperative (Deseret), dated August 13, 2003 (PacifiCorp's Rate Schedule No. 590) and the Second Amended and Restated Transmission Service and Operating Agreement between PacifiCorp and Deseret Dated August 13, 2003 (PacifiCorp's Second Revised Rate Schedule No. 280).

PacifiCorp has requested a waiver of the Commission's notice requirements and an effective date for each of the agreements of August 13, 2003. PacificCorp states that copies of this filing were supplied to the Washington Utilities and Transportation Commission, the Public Utility Commission of Oregon, and the Public Service Commission of Utah.

Comment Date: September 4, 2003.

6. American Transmission Company LLC

[Docket No. ER03-1211-000]

Take notice that on August 14, 2003, American Transmission Company LLC (ATCLLC) tendered for filing a revised Generation-Transmission Interconnection Agreement between ATCLLC and Fox Energy Company LLC (Second Revised Service Agreement No. 233) consisting of amendments to Exhibit 11 and otherwise remaining as originally filed and accepted by the Commission by Letter Order dated March 20, 2002, subject to a previous amendment accepted by the Commission on May 29, 2003. ATCLLC requests retention of the original effective date of January 15, 2002.

Comment Date: September 4, 2003.

7. St. Paul Cogeneration, LLC

[Docket No. ER03-1212-000]

Take notice that on August 14, 2003, St. Paul Cogeneration, LLC filed with the Federal Energy Regulatory Commission an application pursuant to section 205 of the Federal Power Act for authorization to sell energy and capacity at market-based rates.

Comment Date: September 4, 2003.

8. Midwest Independent Transmission System Operator, Inc.

[Docket No. ER03-1213-000]

Take notice that on August 14, 2003, Midwest Independent Transmission System Operator, Inc. (Midwest ISO) pursuant to Section 205 of the Federal Power Act and Section 35.12 of the Commission's regulations, 18 CFR 35.12, submitted for filing an Interconnection and Operating Agreement among Traer Municipal Utilities and Interstate Power and Light Company, a wholly-owned subsidiary of Alliant Energy.

Midwest ISO states that a copy of this filing was served on Traer Municipal Utilities and Interstate Power and Light Company.

Comment Date: September 4, 2003.

9. Midwest Independent Transmission System Operator, Inc.

[Docket No. ER03-1214-000]

Take notice that on August 15, 2003, Midwest Independent Transmission System Operator, Inc., (Midwest ISO), pursuant to Section 205 of the Federal Power Act and Section 35.12 of the Commission's regulations, submitted for filing an Interconnection and Operating Agreement among Maquoketa Municipal Electric Utility and Interstate Power and Light Company, a wholly-owned subsidiary of Alliant Energy.

Midwest ISO states that a copy of this filing was served on Moquoketa Municipal Electric Utility and Interstate Power and Light Company.

Comment Date: September 5, 2003.

10. Southern Company Services, Inc.

[Docket No.ER03-1215-000]

Take notice that on August 14, 2003, Southern Company Services, Inc. (SCS), acting on behalf of Alabama Power Company, Georgia Power Company, Gulf Power Company, Mississippi Power Company, and Savannah Electric and Power Company (collectively Southern Companies), filed a Notice of Cancellation of Service Schedule A of the Restated Interchange Contract dated December 22, 1988 between Florida Power Corporation and Southern Companies (First Revised Rate Schedule FERC No. 70). This cancellation was made pursuant to a bilateral amendment to the Interchange Contract.

Comment Date: September 4, 2003.

11. Southern Company Services, Inc.

[Docket No.ER03-1216-000]

Take notice that on August 15, 2003, Southern Company Services, Inc. (SCS), acting on behalf of Alabama Power Company, Georgia Power Company, Gulf Power Company, Mississippi Power Company, and Savannah Electric and Power Company (collectively Southern Companies), filed a Notice of Cancellation of Service Schedule A and Service Schedule EP to the Interchange Contract dated October 18, 1979 between Florida Power & Light Company and Southern Companies (First Revised Rate Schedule FERC No. 47). These cancellations were made pursuant to a bilateral amendment to the Interchange Contract.

Comment Date: September 5, 2003.

12. California Independent System Operator Corporation

[Docket No. ER03-1217-000]

Take notice that on August 15, 2003, the California Independent System Operator Corporation (ISO), tendered for filing revisions to the Transmission Control Agreement for acceptance by the Commission. The ISO states that the purpose of the revisions is to identify the transmission interests that Trans-Elect NTD Path 15, LLC (Trans-Elect) will be turning over to the ISO's Operational Control, by including those interests in a new Appendix A to the TCA, and to identify the persons to contact at Trans-Elect for notice purposes by expanding Appendix F of the TCA.

The ISO states that this filing has been served on the Public Utilities Commission of California, the California Energy Commission, the California Electricity Oversight Board, the Participating TOs, Trans-Elect, and all parties with effective Scheduling Coordinator Agreements under the ISO Tariff.

The ISO is requesting waiver of the 120-day advance filing limit to allow the revisions to be made effective upon notice after January 1, 2004, as described in the transmittal letter.

Comment Date: September 5, 2003.

13. Nevada Power Company

[Docket No. ER03-1218-000]

Take notice that on August 15, 2003, Nevada Power Company (Nevada Power) tendered for filing an executed Letter of Understanding (LOU) between Nevada Power and five generators: Duke Energy Moapa, LLC; GenWest, LLC; Las Vegas Cogeneration II, LLC; Mirant Las Vegas, LLC; and Reliant Energy Bighorn, LLC. The LOU is submitted as Service Agreement No. 03-00980 under Nevada Power's Open Access Transmission Tariff. Nevada Power requests that the LOU be made effective as of August 2, 2003.

Comment Date: September 5, 2003.

14. Power Receivable Finance, L.L.C.

[Docket No. ES03-51-000]

Take notice that on August 15, 2003, Power Receivable Finance, L.L.C (PRF) submitted an application pursuant to section 204 of the Federal Power Act seeking authorization to issue up to $800 million in aggregate debt securities.

PRF also requests a waiver from the Commission's competitive bidding and negotiated placement requirements at 18 CFR 34.2.

Comment Date: September 5, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-21998 Filed 8-27-03; 8:45 am]

BILLING CODE 6717-01-P